FEDERAL COMMUNICATIONS COMMISSION

47 CFR Part 73

[DA 04-3057: MB Docket No. 03-190; RM-10738]

Radio Broadcasting Services; Athens and Doraville, GA

AGENCY: Federal Communications Commission.

ACTION: Final rule.

SUMMARY: In response to petition for rule making filed by CXR Holdings, Inc. and Cox Radio, Inc. this document reallots Channel 238C1 from Athens to Doraville, Georgia, and modifies the Station WBTS license to specify Doraville as the community of license. See 68 FR 54879, September 19, 2003. The reference coordinates for the Channel 238C1 allotment at Doraville, Georgia, are 34-07-32 and 83-51-32. Station WBTS was granted a license to specify operation on Channel 238C1 in lieu of Channel 238C at Athens, Georgia. See BLH-20011016AAF. The FM Table of Allotments does not reflect this change. With this action, the proceeding is terminated.

DATES: Effective November 18, 2004.

FOR FURTHER INFORMATION CONTACT: Robert Hayne, Media Bureau (202) 418-2177.

SUPPLEMENTARY INFORMATION: This is a synopsis of the Report and Order in MB Docket No. 03-190 adopted September 23, 2004, and released September 27, 2004. The full text of this decision is available for inspection and copying during normal business hours in the FCC Reference Information Center at Portals ll, CY-A257, 445 12th Street, SW., Washington, DC. The complete text of this decision may also be purchased from the Commission's copy contractor, Best Copy and Printing, Inc., 445 12th Street, SW., Room CY-B402, Washington, DC 20554, telephone 1-800-378-3160 or http://www.BCPIWEB.com. The Commission will send a copy of the Report and Order in this proceeding in a report to be sent to Congress and the General Accounting Office pursuant to the Congressional Review Act, see 5 U.S.C.801(a)(1)(A).

List of Subjects in 47 CFR Part 73

Radio, Radio broadcasting.

Part 73 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under Georgia, is amended by removing Channel 238C at Athens, and adding Doraville, Channel 238C1.

Federal Communications Commission.
John A. Karousos,
Assistant Chief, Audio Division, Media Bureau.

[FR Doc. 04-22751 Filed 10-7-04; 8:45 am]

BILLING CODE 6712-01-P